NUCLEAR REGULATORY COMMISSION

10 CFR Parts 50 and 52

[NRC-2023-0089]

Regulatory Guide: Guidelines for Lightning Protection for Production and Utilization Facilities

AGENCY: Nuclear Regulatory Commission.

ACTION: Final guide; issuance.

SUMMARY: The U.S. Nuclear Regulatory Commission (NRC) is issuing Revision 1 to Regulatory Guide (RG), 1.204, “Guidelines for Lightning Protection for Production and Utilization Facilities.” This regulatory guide (RG) revision endorses, with clarifications and exceptions, the methods described in four Institute of Electrical and Electronics Engineers (IEEE) Standards (Std.). This revision also addresses one National Fire Protection Association standard and one Underwriters Laboratory standard as useful secondary references for demonstrating compliance with the applicable NRC regulations for adequate lightning protection of safety-related systems, structures, and components.

DATES: Revision 1 to RG 1.204 is available on February 7, 2024.

ADDRESSES: Please refer to Docket ID NRC-2023-0089 when contacting the NRC about the availability of information regarding this document. You may obtain publicly available information related to this document using any of the following methods:

• Federal Rulemaking Website: Go to https://www.regulations.gov and search for Docket ID NRC-2023-0089. Address questions about Docket IDs in Regulations.gov to Stacy Schumann; telephone: 301-415-0624; email: Stacy.Schumann@nrc.gov. For technical questions, contact the individuals listed in the For Further Information Contact section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. The ADAMS accession number for each document referenced (if it is available in ADAMS) is provided the first time that it is mentioned in this document.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

Revision 1 to RG 1.204 and the regulatory analysis may be found in ADAMS under Accession Nos. ML23241A957 and ML22208A234, respectively.

Regulatory guides are not copyrighted, and NRC approval is not required to reproduce them.

FOR FURTHER INFORMATION CONTACT: Roy Hardin, telephone: (301) 415-2181; email: Roy.Hardin@nrc.gov and James Steckel, telephone: (301) 415-1026; email: James.Steckel@nrc.gov. Both are staff of the Office of Nuclear Regulatory Research at the U.S. Nuclear Regulatory Commission, Washington, DC 20555-0001.

SUPPLEMENTARY INFORMATION:

I. Discussion

The NRC is issuing a revision in the NRC's “Regulatory Guide” series. This series was developed to describe methods that are acceptable to the NRC staff for implementing specific parts of the agency's regulations, to explain techniques that the staff uses in evaluating specific issues or postulated events, and to describe information that the staff needs in its review of applications for permits and licenses.

The proposed Revision 1 to RG 1.204 was issued with a temporary identification of draft Regulatory Guide, DG-1409. Revision 0 of RG 1.204 was issued in November 2005 to endorse IEEE Std. 665-1995; IEEE Std. 666-1991; IEEE Std. 1050-1996; and IEEE Std. C62.23-1995. The IEEE standards 1050, 666 and C62.23 were revised in 2004, 2007 and 2017, respectively. This revision updates the RG and endorses IEEE Std. 665-1995, IEEE Std. 1050-2004; IEEE Std. 666-2007; and IEEE Std. C62.23-2017, with certain clarifications. This revision also addresses one National Fire Protection Association standard and one Underwriters Laboratory standard as useful secondary references for demonstrating compliance with the applicable NRC regulations for adequate lightning protection of safety-related systems, structures, and components.

II. Additional Information

The NRC published a notice of the availability of DG-1409 in the Federal Register on May 3, 2023 (88 FR 27714) for a 30-day public comment period. The public comment period closed on June 2, 2023. Public comments on DG-1409 and the staff responses to the public comments are available under ADAMS under Accession No. ML23241A965.

As noted in the Federal Register on December 9, 2022 (87 FR 75671), this document is being published in the “Rules” section of the Federal Register to comply with publication requirements under 1 CFR chapter I.

III. Congressional Review Act

This RG is a rule as defined in the Congressional Review Act (5 U.S.C. 801-808). However, the Office of Management and Budget has not found it to be a major rule as defined in the Congressional Review Act.

IV. Backfitting, Forward Fitting, and Issue Finality

The NRC staff may use this RG as a reference in its regulatory processes, such as licensing, inspection, or enforcement. However, the NRC staff does not intend to use the guidance in this RG to support NRC staff actions in a manner that would constitute backfitting as that term is defined in section 50.109 of title 10 of the Code of Federal Regulations (10 CFR), “Backfitting,” and as described in NRC Management Directive (MD) 8.4, “Management of Backfitting, Forward Fitting, Issue Finality, and Information Requests,” nor does the NRC staff intend to use the guidance to affect the issue finality of an approval under 10 CFR part 52, “Licenses, Certifications, and Approvals for Nuclear Power Plants.” The staff also does not intend to use the guidance to support NRC staff actions in a manner that constitutes forward fitting as that term is defined and described in MD 8.4. If a licensee believes that the NRC is using this RG in a manner inconsistent with the discussion in the Implementation section of the RG, then the licensee may file a backfitting or forward fitting appeal with the NRC in accordance with the process in MD 8.4.

V. Submitting Suggestions for Improvement of Regulatory Guides

A member of the public may, at any time, submit suggestions to the NRC for improvement of existing RGs or for the development of new RGs. Suggestions can be submitted on the NRC's public website at https://www.nrc.gov/reading-rm/doc-collections/reg-guides/contactus.html. Suggestions will be considered in future updates and enhancements to the “Regulatory Guide” series.

Dated: February 1, 2024.
For the Nuclear Regulatory Commission.
Meraj Rahimi,
Chief, Regulatory Guide and Programs Management Branch, Division of Engineering, Office of Nuclear Regulatory Research.

[FR Doc. 2024-02407 Filed 2-6-24; 8:45 am]

BILLING CODE 7590-01-P